DEPARTMENT OF COMMERCE

International Trade Administration

[A-570-601]

Tapered Roller Bearings and Parts Thereof, Finished and Unfinished, From the People's Republic of China: Final Results and Partial Rescission of Review; 2017-2018

AGENCY: Enforcement and Compliance, International Trade Administration, Department of Commerce.

SUMMARY: The Department of Commerce (Commerce) determines that it is appropriate to rescind this administrative review of the antidumping duty order on tapered roller bearings and parts thereof, finished and unfinished (TRBs), from the People's Republic of China (China) with respect to three of the four companies involved in this review because they had no bona fide (i.e., reviewable) sales to the United States during the period of review (POR), June 1, 2017 through May 31, 2018. Further, Commerce finds that the fourth respondent is not eligible for a separate rate.

DATES: Applicable February 19, 2020.

FOR FURTHER INFORMATION CONTACT: Alex Wood or Whitley Herndon, AD/CVD Operations, Office II, Enforcement and Compliance, International Trade Administration, U.S. Department of Commerce, 1401 Constitution Avenue NW, Washington, DC 20230; telephone: (202) 482-1959 or (202) 482-6274, respectively.

SUPPLEMENTARY INFORMATION:

Background

Commerce published the Preliminary Results on August 15, 2019.¹ Subsequent to the Preliminary Results, we received a case brief from Shandong Aokai Bearing Co., Ltd. (Aokai), a mandatory respondent in this review. On December 10, 2019, in accordance with section 751(a)(3)(A) of the Tariff Act of 1930, as amended (the Act), Commerce extended the deadline for issuing the final results until February 11, 2020.²

¹ See Tapered Roller Bearings and Parts Thereof, Finished and Unfinished, from the People's Republic of China: Preliminary Results and Intent to Rescind the Review in Part; 2017-2018, 84 FR 41701 (August 15, 2019) (Preliminary Results) and accompanying Preliminary Decision Memorandum.

² See Memorandum, “Tapered Roller Bearings and Parts Thereof, Finished and Unfinished, from the People's Republic of China: Extension of Deadline for the Final Results of Antidumping Duty Administrative,” dated December 10, 2019.

Scope of the Order

Imports covered by the order are shipments of tapered roller bearings and parts thereof, finished and unfinished, from China; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS item numbers are provided for convenience and customs purposes, the written description of the scope of the order is dispositive.

Analysis of Comments Received

In the Issues and Decision Memorandum,³ we address the issues raised in Aokai's case brief. The Appendix to this notice includes a list of the issues Aokai raised. The Issues and Decision Memorandum is a public document and is on file electronically via Enforcement and Compliance's Antidumping and Countervailing Duty Centralized Electronic Service System (ACCESS). ACCESS is available to registered users at https://access.trade.gov and ACCESS is available to all parties in the Central Records Unit, Room B8024 of the main Commerce building. In addition, a complete version of the Issues and Decision Memorandum can be accessed directly at http://enforcement.trade.gov/frn/index.html. The signed Issues and Decision Memorandum and the electronic version of the Issues and Decision Memorandum are identical in content.

³ See Memorandum, “Issues and Decision Memorandum for the Antidumping Duty Administrative Review: Tapered Roller Bearings and Parts Thereof, Finished and Unfinished, from the People's Republic of China; 2017-2018,” dated concurrently with, and hereby adopted by, this notice (Issues and Decision Memorandum).

Partial Rescission of the Review

We received no comments from Hangzhou Xiaoshan Dingli Machinery Co., Ltd. (Dingli) or Zhejiang Jingli Bearing Technology Co. Ltd. (Jingli). Further, with respect to Aokai, as addressed in the Issues and Decision Memorandum, we continue to find that it did not have a bona fide sale to serve as the basis for our review. Thus, consistent with our preliminary determination, we find that Aokai, Dingli, and Jingli did not have bona fide sales during the POR and we are rescinding this administrative review with respect to all three companies.

Final Results of Review

We also received no comments pertaining to Taizhou Zson Bearing Technology Co., Ltd. (Zson), and therefore we continue to find Zson to be ineligible for a separate rate and, thus, Zson is part of the China-wide entity. The rate previously established for the China-wide entity is 92.84 percent and is not subject to change as a result of this review, as no party requested a review of the China-wide entity.

Assessment Rates

Pursuant to section 751(a)(2)(C) of the Act, and 19 CFR 351.212(b)(1), Commerce has determined, and U.S. Customs and Border Protection (CBP) shall assess, antidumping duties on all appropriate entries covered by this review. Commerce intends to issue assessment instructions to CBP 15 days after the date of publication of these final results of review.

Because Commerce determined that Zson did not qualify for a separate rate, we will instruct CBP to assess antidumping duties on Zson's entries of subject merchandise at the rate of 92.84 percent, the current rate established for the China-wide entity. Because Commerce is rescinding this administrative for Aokai, Dingli, and Jingli, we will instruct CBP to assess their entries at the rate entered.

Cash Deposit Requirements

The following cash deposit requirements will be effective upon publication of the final results of this administrative review for all shipments of the subject merchandise entered, or withdrawn from warehouse, for consumption on or after the publication date, as provided for by section 751(a)(2)(C) of the Act: (1) For previously investigated or reviewed Chinese and non-Chinese exporters not listed above that have a separate rate, the cash deposit rate will continue to be equal to the exporter-specific weighted-average dumping margin published for the most recently-completed segment of this proceeding; (2) for all Chinese exporters of subject merchandise that have not been found to be entitled to a separate rate, the cash deposit rate will be the cash deposit rate established for the China-wide entity, 92.84 percent; and (3) for all exporters of subject merchandise which are not located in China and which are not eligible for a separate rate, the cash deposit rate will be the rate applicable to the Chinese exporter(s) that supplied that non-Chinese exporter. These deposit requirements, when imposed, shall remain in effect until further notice.

Notification to Importers

This notice serves as a reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

Notification to Interested Parties

We are issuing and publishing these results of review in accordance with sections 751(a)(1) and 777(i)(1) of the Act.

Dated: February 11, 2020.
Jeffrey I. Kessler,
Assistant Secretary for Enforcement and Compliance.

Appendix—List of Topics Discussed in the Issues and Decision Memorandum

I. Summary

II. Background

III. Scope of the Order

IV. Discussion of the Issues

Comment 1: Whether “Bona Fides” Testing is Applicable in Administrative Reviews

Comment 2: Whether Record Evidence Confirms that Aokai's Sale Was Not Bona Fide

Comment 3: Whether Rescinding the Administrative Review Is Appropriate

V. Recommendation

[FR Doc. 2020-03216 Filed 2-18-20; 8:45 am]

BILLING CODE 3510-DS-P